DEPARTMENT OF AGRICULTURE

Forest Service

Boundary Establishment and Comprehensive River Management Plan for Cottonwood Creek National Wild and Scenic River on Inyo National Forest, Forest Service, and the Bureau of Land Management, California State Office, Inyo and Mono Counties, California

AGENCY: Forest Service, Agriculture (USDA).

ACTION: Notice of availability.

SUMMARY: The USDA Forest Service, Washington Office, in accordance with section 3(b) and section 3(d)(1) of the Wild and Scenic Rivers Act, is transmitting the final boundary of Cottonwood Creek National Wild and Scenic River to Congress and is providing notice of availability of the Cottonwood Creek Wild and Scenic River Comprehensive River Management Plan. The comprehensive river management plan and boundary for Cottonwood Creek Wild and Scenic River are available for review online at the following websites: https://www.fs.usda.gov/project/inyo/?project=57325 and https://eplanning.blm.gov/eplanning-ui/project/1505640/570.

ADDRESSES: The comprehensive river management plan and boundary are available for review at the websites listed under SUMMARY. To view the documents in person, arrangements should be made in advance by contacting the offices listed under FOR FURTHER INFORMATION CONTACT.

FOR FURTHER INFORMATION CONTACT: Information may be obtained by contacting Gino San Paolo, Forest Service Regional Land Surveyor, at 707-562-8963 or carlo.sanpaolo@usda.gov. Alternatively, contact Adam Barnett, Inyo National Forest, at 760-973-2461 or adam.barnett@usda.gov; or Sendi Kalcic, Bureau of Land Management California State Office, at 916-978-4469 or skalcic@blm.gov; or Katy Meyer, Bureau of Land Management Ridgecrest Field Office, at 760-384-5400. Individuals who use telecommunications devices for the hearing impaired may call 711 to reach the Telecommunications Relay Service, 24 hours a day, every day of the year, including holidays.

Persons with disabilities who require alternative means of communication for program information (Braille, large print, audiotape, American Sign Language, etc.) should contact the responsible Agency or USDA's TARGET Center at 202-720-2600 (voice and TTY) or contact USDA through the Federal Relay Service at 800-877-8339. Additionally, program information may be made available in languages other than English.

SUPPLEMENTARY INFORMATION: The Omnibus Public Lands Management Act of 2009 (Pub. L. 111-11) of March 30, 2009, designated Cottonwood Creek, California as a National Wild and Scenic River, to be administered by the Secretary of Agriculture and Secretary of Interior. The Wild and Scenic Rivers Act requires that each federally administered river have a legally established boundary. As specified by law, the boundary will not be effective until ninety days after Congress receives the transmittal.

Keith Lannom,
Associate Deputy Chief, National Forest System.

[FR Doc. 2024-15124 Filed 7-9-24; 8:45 am]

BILLING CODE 3411-15-P